DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration (ITA).

Title: Survey of Non-Tariff Trade Barriers to the U.S. Environmental Industry.

OMB Control Number: 0625-0241.

Form Number(s): ITA-4150P.

Type of Request: Regular submission (extension of a currently approved information collection).

Burden Hours: 33.

Number of Respondents: 200.

Average Hours Per Response: 10 minutes.

Needs and Uses: The environmental technologies industry has consistently cited the proliferation of non-tariff barriers as a factor that is making increased U.S. exports in this sector more difficult. This factor has been cited across all subsectors of environmental technologies products and all global geographic regions. The collection of information related to the experience of U.S. exporters with regard to these non-tariff measures is essential to the mission of the U.S. Department of Commerce Office of Energy and Environmental Industries. It allows accurate market analysis as well as support to industry in its export efforts and to the U.S. government in its trade negotiation efforts. The title of the information collection has been changed to reflect the title on the actual survey form.

Affected Public: Business or other for profit organizations.

Frequency: Constant availability via web or periodically via staff personal distribution.

Respondent's Obligation: 10 minutes per response.

Copies of the above information collection proposal can be obtained by calling or writing Jennifer Jessup, Departmental Paperwork Clearance Officer, (202) 482-0336, Department of Commerce, Room 6616, 14th and Constitution Avenue NW., Washington, DC 20230 (or via the Internet at JJessup@doc.gov.)

Written comments and recommendations for the proposed information collection should be sent within 30 days of publication of this notice to Wendy Liberante, OMB Desk Officer, Fax number (202) 395-5167 or via the Internet at Wendy_L._Liberante@omb.eop.gov.

Dated: June 20, 2013.
Gwellnar Banks,
Management Analyst, Office of the Chief Information Officer.

[FR Doc. 2013-15275 Filed 6-25-13; 8:45 am]

BILLING CODE 3510-DR-P